DEPARTMENT OF ENERGY

Federal Energy Regulatory Commission

[Docket No. IC17-15-000]

Commission Information Collection Activities (FERC-505 and FERC-512); Consolidated Comment Request; Extension

AGENCY: Federal Energy Regulatory Commission.

ACTION: Comment request.

SUMMARY: In compliance with the requirements of the Paperwork Reduction Act of 1995, the Federal Energy Regulatory Commission (Commission or FERC) is soliciting public comment on the requirements and burden of information collections, FERC-505 (Small Hydropower Projects and Conduit Facilities including License/Relicense, Exemption and Qualifying Conduit Facility Determination) and FERC-512 (Preliminary Permit) which will be submitted to the Office of Management and Budget (OMB) for a review of the information collection requirements. Any interested person may file comments directly with OMB and should address a copy of those comments to the Commission as explained below. The Commission published a 60-day Notice in the Federal Register in Docket No. IC17-15-000, (82 FR 46231, 10/04/2017) requesting public comments. FERC received no comments in response to the Notice and is indicating that in its submittals to the OMB.

DATES: Comments on the collections of information are due January 25, 2018.

ADDRESSES: Comments filed with OMB, identified by OMB Control Nos. 1902-0115 and 1902-0073, should be sent via email to the Office of Information and Regulatory Affairs: oira_submission@omb.gov. Attention: Federal Energy Regulatory Commission Desk Officer. The Desk Officer may also be reached via telephone at 202-395-0710. A copy of the comments should also be sent to the Commission, in Docket No. IC17-15-000 by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year approval of the FERC-505 and FERC-512 information collection requirements with no changes to the current reporting requirements. Please note that each collection is distinct from the next.

Comments: Comments are invited on: (1) Whether the collections of information are necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Title: FERC-505, Small Hydropower Projects and Conduit Facilities including License/Relicense, Exemption, and Qualifying Conduit Facility Determination.

OMB Control No.: 1902-0115.

Abstract: The Hydropower Efficiency Act amended statutory provisions pertaining to preliminary permits and to projects that are exempt from certain licensing requirements under the Federal Power Act (FPA) in order to reduce cost and regulatory burden, and in turn, promote hydropower development. Specifically, the Hydropower Efficiency Act gave the Commission authority to extend a preliminary permit once for not more than two additional years without requiring the permittee to apply for a successive preliminary permit. The Hydropower Efficiency Act also expanded the number of projects that may qualify for exemptions from certain licensing requirements under the FPA (i.e., small conduit hydroelectric facilities or small hydroelectric power projects), and allowed other projects to qualify to operate without Commission oversight (i.e., qualifying conduit hydropower facilities). While the Commission-approved revised regulations formally implement the Hydropower Efficiency Act, the Commission has complied with the Act since its enactment.

Type of Respondents: Businesses or other for-profit and not-for-profit institutions.

Estimate of Annual Burden: The Commission estimates the annual public reporting burden for the information collection as:

FERC-505 (Small Hydropower Projects and Conduit Facilities Including License/Relicense, Exemption, and Qualifying Conduit Facility Determination)
| Number of respondents | Annual number of responses per respondent | Total number of responses | Average burden and cost per response | Total annual burden and total annual cost | Cost per respondent ($)
| (1) | (2) | (1) * (2) = (3) | (4) | (3) * (4) = (5) | (5) ÷ (1)
FERC-505 | 16 | 1 | 16 | 273 hrs.; $20,884.50 | 4,368 hrs.; $334,152 | 20,884.50

Title: FERC-512, Preliminary Permit.

OMB Control No.: 1902-0073.

Abstract: The information collected under the requirements of FERC-512, is used by the Commission to implement the statutory provisions of the Federal Power Act (FPA) 16 U.S.C. The purpose of obtaining a preliminary permit is to maintain priority of the application for a license for a hydropower facility while the applicant conducts surveys to prepare maps, plans, specifications and estimates; conducts engineering, economic and environmental feasibility studies; and made financial arrangements. The conditions under which the priority will be maintained are set forth in each permit.

Type of Respondent: Businesses or other for-profit and not-for-profit institutions.

Estimate of Annual Burden: ¹ The Commission estimates the annual public reporting burden for the information collection as:

¹ Burden is the total time, effort, or financial resources expended by persons to generate, maintain, retain, or disclose or provide information to or for a Federal agency. For further explanation of what is included in the information collection burden, refer to 5 Code of Federal Regulations 1320.3.

² Subject matter experts found that industry employment costs closely resemble FERC's wage average wage figure. FERC's 2017 average annual salary plus benefits per FTE (full-time equivalent) is $158,754 (or $76.50 per hour).

FERC-512 (Preliminary Permit)
| Number of respondents | Annual number of responses per respondent | Total number of responses | Average burden & cost per response | Total annual burden & total annual cost | Cost per respondent ($)
| (1) | (2) | (1) * (2) = (3) | (4) | (3) * (4) = (5) | (5) ÷ (1)
FERC-512 | 50 | 1 | 50 | 24 hrs.; $1,836 | 1,200 hrs.; $91,800 | 1,836

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 18, 2017.
Kimberly D. Bose,
Secretary.

[FR Doc. 2017-27736 Filed 12-22-17; 8:45 am]

BILLING CODE 6717-01-P